DEPARTMENT OF DEFENSE

Department of the Navy

Notice of the Availability of Record of Decision for the Final Supplemental Environmental Impact Statement for Disposal and Reuse of Hunters Point Naval Shipyard, San Francisco, CA

AGENCY: Department of the Navy, DoD.

ACTION: Notice.

SUMMARY: The Department of the Navy (DoN), after carefully weighing the environmental consequences of the proposed action, announces its decision to dispose of the Hunters Point Shipyard in a manner consistent with the San Francisco Redevelopment Agency's Hunters Point Shipyard Redevelopment Plan, as amended August 3, 2010. This Record of Decision (ROD) amends the DoN's previous ROD for the Disposal and Reuse of the Hunters Point Annex to the Naval Station Treasure Island, Formerly Hunters Point Naval Shipyard, San Francisco, California, November 20, 2000 (65 FR 69744).

SUPPLEMENTARY INFORMATION: The complete text of the ROD and the Final Supplemental Environmental Impact Statement (SEIS) for the Disposal and Reuse of Hunters Point Shipyard, San Francisco, California, March 2012 is available for public viewing at the DoN Base Realignment and Closure (BRAC) Program Management Office (PMO) Web site (http://www.bracpmo.navy.mil/). The ROD and Final SEIS are also available for viewing at the:

1. San Francisco Main Library, 100 Larkin Street, San Francisco, CA 94102;

2. San Francisco State University Library, 1360 Holloway Avenue, San Francisco, CA 94132;

3. Hastings Law Library, UC Hastings College of the Law, 200 McAllister Street, 4th Floor, San Francisco, CA 94102;

4. Jonsson Library of Government Documents, Cecil H. Green Library, Bing Wing, Stanford, CA 94305;

5. Institute of Governmental Studies Library, UC Berkeley, 109 Moses Hall #2370, Berkeley, CA 94720;

6. City Planning Department (By Appointment), 1650 Mission Street, Fourth Floor, San Francisco, CA 94103.

Single copies of the ROD will be made available upon request by contacting: Director, BRAC PMO West, Attention: Mr. Ronald Bochenek, 1455 Frazee Road, Suite 900, San Diego, California 92108-4310, telephone number: 619-532-0906, email: ronald.bochenek.ctr@navy.mil.

Dated: June 27, 2012.
L.R. Almand,
Judge Advocate General's Corps, U.S. Navy, Alternate Federal Register Liaison Officer.

[FR Doc. 2012-16646 Filed 7-6-12; 8:45 am]

BILLING CODE 3810-FF-P